NATIONAL SCIENCE FOUNDATION

Advisory Committee for Computer and Information Science and Engineering: Notice of Meeting

In accordance with the Federal Advisory Committee Act (Pub. L. 92-463, as amended), the National Science Foundation (NSF) announces the following meeting:

Name: Advisory Committee for Computer and Information Science and Engineering (CISE) (1115).

Date/Time: November 13, 2014: 12:30 p.m. to 5:30 p.m., November 14, 2014: 8:30 a.m. to 12:30 p.m.

Place: National Science Foundation, 4201 Wilson Boulevard, Suite 1235, Arlington, Virginia 22230.

Type of Meeting: Open.

Contact Person: Carmen Whitson, National Science Foundation, 4201 Wilson Boulevard, Suite 1105, Arlington, Virginia 22230; Telephone 703/292-8900.

Purpose of Meeting: To advise NSF on the impact of its policies, programs and activities on the CISE community. To provide advice to the Assistant Director for CISE on issues related to long-range planning, and to form ad hoc subcommittees and working groups to carry out needed studies and tasks.

Agenda:

Overview and update of CISE budget and activities

Working group breakout session: Growing number of students enrolled in computer science and engineering courses

Presentation and discussion of the CISE Committee of Visitors report

Panel discussion on data science activities

Discussion with NSF Director, Dr. France Córdova

Closing remarks and wrap-up.

Dated: October 10, 2014.
Suzanne Plimpton,
Acting, Committee Management Officer.

[FR Doc. 2014-24691 Filed 10-16-14; 8:45 am]

BILLING CODE 7555-01-P